DEPARTMENT OF TRANSPORTATION

Surface Transportation Board

[STB Finance Docket No. 34464]

Wisconsin & Southern Railroad Co.—Acquisition Exemption—Iowa, Chicago & Eastern Railroad Corporation

AGENCY: Surface Transportation Board.

ACTION: Notice of exemption.

SUMMARY: Under 49 U.S.C. 10502, the Board is granting a petition for exemption from the prior approval requirements of 49 U.S.C. 10902 for Wisconsin & Southern Railroad Co. (WSOR), a Class II carrier, to acquire from Iowa, Chicago & Eastern Railroad Corporation (IC&E) 7.33 miles of railroad in Janesville, Rock County, WI, owned by IC&E.¹ The line being acquired consists, as described by petitioner, of the following track segments: (1) Between the division of ownership at milepost 94.49 on Buyer's line to Fox Lake, IL, and the division of ownership at milepost 11.02 on Buyer's line to Monroe, WI; (2) between milepost 98.27 and milepost 46.75 on Buyer's line to Milton Jct., WI; (3) between milepost 9.96 and milepost 46.08, consisting generally of the north leg of the wye track at Janesville; and (4) the connecting track between milepost 45.23 and the connection with the leased premises at milepost 46.08.

¹ WSOR states that it already leases and operates over approximately 6.48 miles of railroad and that it would acquire .85 miles of connecting track in addition to the lines over which it currently operates.

DATES: The exemption will be effective 60 days after WSOR certifies that it has complied with Board regulations at 49 CFR 1121.4(h). Petitions to stay must be filed by July 12, 2004. Petitions to reopen must be filed by July 20, 2004.

ADDRESSES: An original and 10 copies of all pleadings referring to STB Finance Docket No. 34464 must be filed with the Surface Transportation Board, 1925 K Street, NW., Washington, DC 20423-0001. In addition, one copy of all pleadings must be served on petitioner's representative, John D. Heffner, John D. Heffner, PLLC, 1920 N Street, NW., Suite 800, Washington, DC 20036.

FOR FURTHER INFORMATION CONTACT: Joseph H. Dettmar (202) 565-1609. [Assistance for the hearing impaired is available through the Federal Information Relay Service (FIRS) at 1-800-877-8339.]

SUPPLEMENTARY INFORMATION: Additional information is contained in the Board's decision. Copies of the decision may be purchased from ASAP Document Solutions by calling (301) 577-2600 (assistance for the hearing impaired is available through the Federal Information Relay Service (FIRS) at 1-800-877-8339) or by visiting Suite 103, 9332 Annapolis Road, Lanham, MD 20706.

Board decisions and notices are available on our Web site at http://www.stb.dot.gov.

Decided: June 29, 2004.
By the Board, Chairman Nober, Vice Chairman Mulvey, and Commissioner Buttrey.
Vernon A. Williams,
Secretary.

[FR Doc. 04-15200 Filed 7-2-04; 8:45 am]

BILLING CODE 4915-01-P